ENVIRONMENTAL PROTECTION AGENCY

[FRL-8759-1]

Good Neighbor Environmental Board; Notification of Public Advisory Committee Teleconference

AGENCY: Environmental Protection Agency (EPA).

ACTION: Notification of Public Advisory Committee Teleconference.

SUMMARY: Pursuant to the Federal Advisory Committee Act, Public Law 92-463, notice is hereby given that the Good Neighbor Environmental Board (GNEB) will hold a public teleconference on January 16, 2009 from 1 p.m. to 3 p.m. Eastern Standard Time. The meeting is open to the public. For further information regarding the teleconference and background materials, please contact Mark Joyce at the number listed below.

Background: GNEB is a Federal advisory committee chartered under the Federal Advisory Committee Act, Public Law 92-463. UNEB provides advice and recommendations to the President and Congress on environmental and infrastructure issues along the U.S. border with Mexico.

Purpose of Meeting: The purpose of this teleconference is to discuss and approve the Good Neighbor Environmental Board's Twelfth Report: Innovative Approaches to Addressing Environmental Problems along the US/Mexico Border.

Supplementary Information: If you wish to make oral comments or submit written comments to the Board, please contact Mark Joyce at least five days prior to the meeting.

General Information: Additional information concerning the GNEB can be found on its Web site at http://www.epa.gov/ocem/gneb.

Meeting Access: For information on access or services for individual with disabilities, please contact Mark Joyce at (202) 564-2130 or e-mail him at joyce.mark@epa.gov. To request accommodation of a disability, please contact Mark Joyce at least 10 days prior to the meeting to give EPA as much time as possible to process your request.

Dated: December 19, 2008.
Mark Joyce,
Designated Federal Officer.

[FR Doc. E8-31152 Filed 1-5-09; 8:45 am]

BILLING CODE 6560-50-M